DEPARTMENT OF HEALTH AND HUMAN SERVICES

Centers for Disease Control and Prevention

Solicitation of Nominations for Appointment to the World Trade Center Health Program Scientific/Technical Advisory Committee (STAC)

ACTION: Notice.

SUMMARY: The Centers for Disease Control and Prevention (CDC), in accordance with provisions of the James Zadroga 9/11 Health and Compensation Act of 2010, is seeking nominations for membership on the World Trade Center (WTC) Health Program STAC. The STAC consists of 17 members including experts in fields associated with occupational medicine, pulmonary medicine, environmental medicine or environmental health, industrial hygiene, epidemiology, toxicology, mental health, and representatives of WTC responders, as well as representatives of certified-eligible WTC survivors. The STAC reviews scientific and medical evidence and makes recommendations to the Administrator of the WTC Health Program on additional Program eligibility criteria and additional WTC-related health conditions and provides consultation on research regarding certain health conditions related to the September 11, 2001 terrorist attacks.

DATES: Nominations for membership on the STAC must be received no later than November 16, 2018. Packages received after this time will not be considered for the current membership cycle.

ADDRESSES: All nominations should be mailed to NIOSH Docket 229-G, c/o Mia Wallace, Committee Management Specialist, National Institute for Occupational Safety and Health, Centers for Disease Control and Prevention, 1600 Clifton Rd. NE, MS: E-20, Atlanta, Georgia 30333, or emailed (recommended) to nioshdocket@cdc.gov.

FOR FURTHER INFORMATION CONTACT: Tania Carreón-Valencia, WTC Health Program Associate Director for Science, 1600 Clifton Rd. NE, MS: R-12, Atlanta, GA 30333; telephone (404)498-2500 (this is not a toll-free number); email TCarreonValencia@cdc.gov.

SUPPLEMENTARY INFORMATION: Nominations are being sought for individuals who have expertise and qualifications necessary to contribute to accomplishing the committee's objectives. The Administrator of the WTC Health Program is seeking nominations for members fulfilling the following categories:

• Environmental medicine or environmental health specialist;

• Occupational physician who has experience treating WTC rescue and recovery workers;

• Physician with expertise in pulmonary medicine;

• Representative of WTC responders; and

• Representative of certified-eligible WTC survivors.

Members may be invited to serve for three-year terms. Selection of members is based on candidates' qualifications to contribute to the accomplishment of STAC objectives. More information on the committee is available at https://www.cdc.gov/wtc/stac.html.

U.S. Department of Health and Human Services (HHS) policy stipulates that committee membership be balanced in terms of points of view represented, and the committee's function. Appointments shall be made without discrimination on the basis of age, race, ethnicity, gender, sexual orientation, gender identity, HIV status, disability, and cultural, religious, or socioeconomic status. Nominees must be U.S. citizens. Current participation on federal workgroups or prior experience serving on a federal advisory committee does not disqualify a candidate; however, HHS policy is to avoid excessive individual service on advisory committees and multiple committee memberships. Committee members are Special Government Employees, requiring the filing of financial disclosure reports at the beginning of and annually during their terms. NIOSH identifies potential candidates and provides a slate of nominees for consideration to the Director of CDC for STAC membership each year; CDC reviews the proposed slate of candidates, and provides a slate of nominees for consideration to the Secretary of HHS for final selection. HHS notifies selected candidates of their appointment near the start of the term in October, or as soon as the HHS selection process is completed. Note that the need for different expertise varies from year to year and a candidate who is not selected in one year may be reconsidered in a subsequent year.

Candidates should submit the following items:

Current curriculum vitae, including complete contact information (telephone numbers, mailing address, email address);

The category of membership (environmental medicine or environmental health specialist, occupational physician, pulmonary physician, representative of WTC responders, representative of certified-eligible WTC survivors, industrial hygienist, toxicologist, epidemiologist, or mental health professional) that the candidate is qualified to represent;

A summary of the background, experience, and qualifications that demonstrates the candidate's suitability for the nominated membership category; and

At least one letter of recommendation from a person(s) not employed by HHS. (Candidates may submit letter(s) from current HHS employees if they wish, but at least one letter must be submitted by a person not employed by an HHS agency (e.g., CDC, NIH, FDA, etc.).

Nominations may be submitted by the candidate him- or herself, or by the person/organization recommending the candidate.

The Director, Management Analysis and Services Office, has been delegated the authority to sign Federal Register notices pertaining to announcements of meetings and other committee management activities for both CDC and the Agency for Toxic Substances and Disease Registry.

Sherri Berger,
Chief Operating Officer, Centers for Disease Control and Prevention.

[FR Doc. 2018-19418 Filed 9-6-18; 8:45 am]

BILLING CODE 4163-18-P